DEPARTMENT OF ENERGY

Federal Energy Regulatory Commission

[Docket No. Rm11-12-000]

Availability of e-Tag Information to Commission Staff; Notice Specifying webRegistry Code

In Order No. 771,¹ the Federal Energy Regulatory Commission amended its regulations to grant the Commission access, on a non-public and ongoing basis, to the complete electronic tags (e-Tags) used to schedule the transmission of electric power interchange transactions in wholesale markets. Order No. 771 requires e-Tag Authors (through their Agent Service) and Balancing Authorities (through their Authority Service), beginning March 15, 2013, to take appropriate steps to ensure Commission access to the e-Tags covered by this Final Rule by designating the Commission as an addressee on the e-Tags.

¹ Availability of E-Tag Information to Commission Staff, 77 FR 76367 (Dec. 28. 2012), 141 FERC ¶ 61,235 (2012) (FR).

In Order No. 771, the Commission stated that, “following issuance of this Final Rule and the Commission's registration in the OATI webRegistry, the Commission will issue a notice specifying which entity code should be used to ensure that the Commission is an addressee on the e-Tag” (fn. 103). Although the Commission has not completed the registration process, the Commission intends to facilitate the continued development of compliance software and processes by issuing this notice to specify that “FERC” will be the likely entity and tag codes registered in the Purchasing-Seller Entity section of OATI webRegistry. This code should be used to designate the Commission as an addressee to comply with 18 CFR 366.2(d) of the Commissions regulations.

As stated in footnote 103 of the Final Rule, the Commission will issue a further notice at the completion of the registration process.

Dated: January 18, 2013.
Kimberly D. Bose,
Secretary.

[FR Doc. 2013-01612 Filed 1-25-13; 8:45 am]

BILLING CODE 6717-01-P